FEDERAL COMMUNICATIONS COMMISSION

Public Information Collections Approved by Office of Management and Budget

March 24, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0395.

Expiration Date: September 30, 2000.

Title: The ARMIS USOA Report; The ARMIS Service Quality Report; and The ARMIS Infrastructure Report.

Form No.: FCC Report Nos. 43-02; 43-05; 43-07.

Respondents: Business or other for-profit.

Estimated Annual Burden: 50 respondents; 929.52 hours per response (avg). 46,476 total annual burden hours.

Estimated Annual Reporting and Recordkeeping Cost Burden: $0.

Frequency of Response: Annual.

Description: FCC Report 43-02 contains company-wide data for each account specified in the Uniform System of Accounts (USOA). It provides the annual operating results of the carriers' activities for every account in the USOA. (FCC Report 43-02 has 50 respondents, 637.6 hours per response (avg.), 31,880 total annual hours).

FCC Report 43-05 collects data at the study area and holding company levels and is designed to capture trends in service quality under price cap regulations. It provides service quality information in the areas of interexchange access service installation and repair intervals, local service installation and repair intervals, trunk blockage and total switch downtime for price cap companies. (FCC Report 43-05 has 12 respondents, 849 hours per response (avg.), 10,197.4 total annual hours).

FCC Report 43-07 is designed to capture trends in telephone industry infrastructure development under price cap regulation. It provides switch deployment and capabilities data. (FCC Report 43-07 has 8 respondents, 555 hours per response (avg.) 4,400 total annual hours). Obligation to respond: Mandatory.

OMB Control No.: 3060-0496.

Expiration Date: March 31, 2002.

Title: The ARMIS Operating Data Report.

Form No.: FCC Report 43-08.

Respondents: Business or other for-profit.

Estimated Annual Burden: 50 respondents; 160 hours per response (avg.); 8000 total annual burden hours.

Estimated Annual Reporting and Recordkeeping Cost Burden: $0.

Frequency of Response: Annual.

Description: The ARMIS Operating Data Report consists of statistical schedules which are needed by the Commission to monitor network growth, usage, and reliability. Obligation to respond: Mandatory.

OMB Control No.: 3060-0511.

Expiration Date: September 30, 2000.

Title: ARMIS Access Report.

Form No.: FCC Report 43-04.

Respondents: Business or other for-profit.

Estimated Annual Burden: 150 respondents; 621 hours per response (avg.); 93,150 total annual burden.

Estimated Annual Reporting and Recordkeeping Cost Burden: $0.

Frequency of Response: Annual.

Description: The Access Report is needed to administer the results of the FCC's jurisdictional separations and access charge procedures in order to analyze revenue requirements, joint cost allocations, jurisdictional separations and access charges. Obligation to respond: Mandatory.

OMB Control No.: 3060-0512.

Expiration Date: September 30, 2000.

Title: The ARMIS Annual Summary Report.

Form No.: FCC Report No. 43-01.

Respondents: Business or other for-profit.

Estimated Annual Burden: 150 respondents; 135 hours per response (avg.); 20,250 total annual burden hours.

Estimated Annual Reporting and Recordkeeping Cost Burden: $0.

Frequency of Response: Annual.

Description: The ARMIS Annual Summary Report contains financial and operating data and is used to monitor the incumbent local exchange carriers and to perform routine analyses of costs and revenues on behalf of the Commission. Obligation to respond: Mandatory.

OMB Control No.: 3060-0513.

Expiration Date: September 30, 2000.

Title: ARMIS Joint Cost Report.

Form No.: FCC Report 43-03.

Respondents: Business or other for-profit.

Estimated Annual Burden: 150 respondents; 83 hours per response (avg.); 12,450 total annual burden hours.

Estimated Annual Reporting and Recordkeeping Cost Burden: $0.

Frequency of Response: Annual.

Description: The Joint Cost Report is needed to administer our Part 64 joint cost rules and to analyze the regulated and nonregulated cost and revenue allocations by study area in order to prevent cross-subsidization of nonregulated operations by the regulated operations. Obligation to respond: Mandatory.

OMB Control No.: 3060-0763.

Expiration Date: March 31, 2002.

Title: The ARMIS Customer Satisfaction Report.

Form No.: FCC Report 43-06.

Respondents: Business or other for-profit.

Estimated Annual Burden: 8 respondents; 720 hours per response (avg.); 5760 total annual burden hours.

Estimated Annual Reporting and Recordkeeping Cost Burden: $0.

Frequency of Response: Annual.

Description: The Customer Satisfaction Report collects data from carrier surveys designed to capture trends in service quality. Obligation to respond: Mandatory.

OMB Control No.: 3060-0410.

Expiration Date: June 30, 2000.

Title: Forecast of Investment Usage Report and Actual Usage of Investment Report.

Form No.: FCC 495A; FCC 495B.

Respondents: Business or other for-profit.

Estimated Annual Burden: 300 respondents: 40 hours per response; 12,000 total annual burden hours.

Estimated Annual Reporting and Recordkeeping Cost Burden: $0.

Frequency of Response: Annual.

Description: The Forecast of Investment Usage Report is used by carriers to submit the forecasts of investments used. The Actual Usage of Investment Report is used to submit the actual investments used. These reports are part of the Automated Reporting Management Information System (ARMIS). The information contained in these two reports provides the necessary detail to enable this Commission to fulfill its regulatory responsibility to ensure that the regulated operations of the carriers do not subsidize the nonregulated operations of those same carriers. Obligation to respond: Mandatory.

Several of the ARMIS Reports have been revised pursuant to an Order issued in AAD 95-91, released December 15, 1999. The Order implemented changes to ARMIS necessitated by recent Commission orders and provides improved definitions, descriptions, and instructions that will lead to greater clarity and consistency in reporting by incumbent local exchange carriers. The Appendix to the Order contains all the revisions made to the reports. See AAD 95-91. For copies of the procedures and formats for the ARMIS reports, please call Barbara Van Hagen at 202-418-0849. Copies of the procedures and formats may also be obtained via the Internet at http://www.fcc.gov/ccb/armis.

OMB Control No.: 3060-0076.

Expiration Date: February 28, 2000.

Title: Annual Employment Report for Common Carriers.

Form No.: FCC Form 395.

Respondents: Business or other for-profit.

Estimated Annual Burden: 4000 respondents; 1 hour per response (avg.); 4000 total annual burden hours.

Estimated Annual Reporting and Recordkeeping Cost Burden: $0.

Frequency of Response: Annual.

Description: The Annual Employment Report is a data collection device for enforcement and assessment of the Commission's EEO Rules. All common carrier licensees or permittees with sixteen (16) or more full-time employees are required to file this report and retain it for a two-year period. The report identifies each carrier's staff by gender, race, color and/or national origin in each of nine major job categories. The information describes applicant's compliance with the EEO rules. The information, in addition to being useful for the Commission's purposes, has also been used by public interest groups, NTIA, the Equal Employment Opportunity Commission, the Congress and the U.S. Commission on Civil Rights to assess progress in accordance with their particular objectives. FCC Form 395 has been revised to incorporate the new OMB expiration date. Copies of the revised edition of the form are available via the Internet at www.fcc.gov/formpage.html. Printed copies of the form may be obtained either by writing to the Commission's Forms Distribution Center, 9300 E. Hampton Drive, Capital Heights, Maryland 20431, or by calling telephone number 1-800-418-3676 and leaving a request on the answering machine provided for that purpose. Obligation to respond: Required to obtain or retain benefits.

OMB Control No.: 3060-0921.

Expiration Date: August 31, 2000.

Title: Petitions for LATA Boundary Modification for the Deployment of Advanced Services.

Form No.: N/A.

Respondents: Business or other for-profit.

Estimated Annual Burden: 20 respondents; 8 hours per respondent (avg.); 160 hours total annual burden.

Estimated Annual Reporting and Recordkeeping Cost Burden: $0.

Frequency of Response: On occasion.

Description: Bell Operating Companies (BOCs) that petition for LATA boundary modifications to encourage the deployment of advanced services on a reasonable and timely basis are requested to include information in accordance with the criteria specified in CC Docket 98-147, Fourth Report and Order and Memorandum Opinion and Order, released February 11, 2000.

A BOC must include the following criteria to the extent applicable in any request for LATA boundary modification to supply advance services: (i) The customer and type of customer to be serviced; (ii) the specific service or services currently provided, or to be provided, to that customer; (iii) the capacity required to provide the service; (iv) the protocols to be used to provide the service; (v) the physical mode of transport; (vi) the path that the network would take if the LATA modification were to be granted, with a map of the proposed modification indicating the location of the nearest NAP; (vii) efforts made to obtain interLATA access from an interexchange carrier (IXC), or other provider of interLATA services; and (vii) any response, or offer to supply advanced service, received from another provider of interLATA transport. The BOC should describe the quality of the service offered by available interLATA providers; the affordability of the service; and include any other information that may be needed on a case by case basis. See CC Docket No. 98-147 for complete details on criteria. The Commission will use this information to review the petitions.

In order to review request for LATA modifications promptly and efficiently, it is necessary that BOCs provide the information specified in the Order. The criteria set forth in the Order will serve to ease the petition process on BOCs by providing guidelines that will service to narrow the scope of their petitions to the issues and facts that the Commission is primarily concerned with. In addition, the request will also expedite the petition review process by ensuring that petitioners will provide all of the information the Commission needs to properly review the requests. Obligation to respond: Required to obtain or retain benefits.

OMB Control No.: 3060-0804.

Expiration Date: September 30, 2000.

Title: Universal Service—Health Care Providers Universal Service Program.

Form No.: FCC Forms 465, 466, 467 and 468.

Respondents: Business or other for-profit.

Estimated Annual Burden: 14,700 respondents; 3.94 hours per response (avg.); 58,050 total annual burden hours.

Estimated Annual Reporting and Recordkeeping Cost Burden: $0.

Frequency of Response: On occasion.

Description: The Commission adopted rules providing support for all telecommunications services, Internet access, and internal connections for all eligible health care providers. Health care providers who want to participate in the universal service program must file several forms, one being FCC form 465. FCC Form 465 was recently revised, among other things, to remove the data element concerning consortia as each health care provide now files this information individually. Health care providers must now certify their compliance with state and local procurement rules. Other items on the form have been renumbered and reorganized to enhance the flow of information. Rural health care providers ordering discounted telecommunications services under the universal service program must submit FCC Form 465. Rural health care providers must certify their eligibility to receive discounted telecommunication services. Call RHCD at 800-229-5476 for questions concerning or copies of FCC Forms 465, 466, 467 and 468. Obligation to respond: Required to obtain or retain benefits.

OMB Control No.: 3060-0855.

Expiration Date: August 31, 2000.

Title: Telecommunications Reporting Worksheet and Associated Requirements, CC Docket No. 98-171.

Form No.: FCC Form 499.

Respondents: Business or other for-profit.

Estimated Annual Burden: 5500 respondents; 7.2 hours per response (avg.); 40,000 total annual burden hours.

Estimated Annual Reporting and Recordkeeping Cost Burden: $0.

Frequency of Response: On occasion.

Description: All contributors to the federal universal service support mechanisms, the TRS Fund, the cost recovery mechanism for numbering administration, and the cost recovery mechanism for the shared costs of local number portability must file the revised Telecommunications Reporting Worksheet, FCC Form 499-A) (April 2000 Worksheet). Contributors to the mechanisms include every telecommunications carrier providing interstate telecommunications and certain other providers of interstate telecommunications for a fee. Data filed on the April 2000 Worksheet will be used to calculate contributions to the universal service support mechanisms, as well as to the TRS Fund, the cost recovery for numbering administration, and the cost recovery for the shared costs of local number portability. Copies of the April 2000 Worksheet (FCC Form 499-A) and instructions may be downloaded from the Commission's Forms Web Page (www.fcc.gov/formpage.html). Copies may also be obtained from NECA at (973) 560-4400. Obligation to respond: Mandatory.

OMB Control No.: 3060-0147.

Expiration Date: February 28, 2003.

Title: Section 64.804—Extension of Unsecured Credit for Interstate and Foreign Communications Services to Candidates for Federal Office.

Form No.: N/A.

Respondents: Business or other for-profit.

Estimated Annual Burden: 13 respondents; 8 hours per response (avg.); 104 total annual burden hours.

Estimated Annual Reporting and Recordkeeping Cost Burden: $0.

Frequency of Response: Annually.

Description: Communications common carriers with operating revenues exceeding $1 million who extend unsecured credit to a candidate or person on behalf of such candidates for Federal office must file with the FCC a report including due and outstanding balances. The information is used for monitoring purposes. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-8342 Filed 4-4-00; 8:45 am]

BILLING CODE 6712-01-U